DEPARTMENT OF COMMERCE

National Oceanic and Atmospheric Administration

Notice of Intent To Conduct Scoping and To Prepare a Draft Environmental Impact Statement for the Proposed Bay of Green Bay National Estuarine Research Reserve

AGENCY: Office for Coastal Management (OCM), National Ocean Service (NOS), National Oceanic and Atmospheric Administration (NOAA), U.S. Department of Commerce.

ACTION: Notice of intent to prepare a draft environmental impact statement and hold public scoping meetings; request for comments.

SUMMARY: In accordance with Section 315 of the Coastal Zone Management Act of 1972, as amended, and the National Environmental Policy Act of 1969, as amended, NOAA and the State of Wisconsin intend to prepare a draft environmental impact statement and draft management plan for the proposed Bay of Green Bay National Estuarine Research Reserve. NOAA and the State are also announcing two public scoping meetings to solicit comments on significant issues related to the development of a draft environmental impact statement for the proposed Bay of Green Bay National Estuarine Research Reserve.

DATES: Both an in-person meeting and a virtual meeting will be held on Tuesday, March 19, 2024. The virtual meeting will be held at 10 a.m. Central Time (CT). The in-person meeting will be held at 1:30 p.m. CT. Written comments provided electronically must be submitted no later than Friday, April 19, 2024; written comments submitted by mail must be postmarked by Friday, April 19, 2024.

ADDRESSES: The virtual public scoping meeting will be held on Zoom at the following link: wisconsin-edu.zoom.us/j/99904429917?pwd=akF5N1IrSHhCKzdYVEVtWmNKNU90dz09 at 10 a.m. Central Time. If requested upon joining the virtual meeting, the meeting ID is 999 0442 9917, and the attendee access code is NERR. Participants may also join the meeting by phone by using this toll-free number: +1 (312) 626-6799, along with meeting ID 999 0442 9917, and attendee access code 826461.

The in-person public scoping meeting will be conducted in the S.T.E.M. Innovation Center at the University of Wisconsin Green Bay campus, located at 2019 Technology Way, Green Bay, Wisconsin 54311 at 1:30 p.m. Central Time. This meeting will be in-person only and not broadcast.

Participants will be able to provide comments during both meetings. Both public meetings will present the same information. Meeting documents will be available on the University of Wisconsin-Green Bay's national estuarine research reserve website, uwgb.edu/national-estuarine-research-reserves, as well as on the Federal eRulemaking Portal, regulations.gov/docket?D=NOAA-NOS-2024-0006.

Written comments may be submitted using the following methods:

• Electronic Submission: Submit all electronic public comments via the Federal eRulemaking Portal. Go to regulations.gov/docket?D=NOAA-NOS-2024-0006, click the “Comment Now!” button, complete the required fields, and enter or attach your comments. Written comments must be submitted no later than 11:59 p.m. Eastern Time on Friday, April 19, 2024.

• Mail: Submit written comments to Bridget Faust-Accola, Office for Coastal Management, 1735 Lake Drive West, Chanhassen, Minnesota 55317; ATTN: Bay of Green Bay Research Reserve. Comments must be postmarked no later than Friday, April 19, 2024.

Instructions: All comments received are part of the public record and will be posted for public viewing on regulations.gov/docket?D=NOAA-NOS-2024-0006 with no changes. All personally identifiable information (e.g., name, address, etc.), confidential business information, or otherwise sensitive information submitted voluntarily by the commenter will be publicly accessible and maintained by NOAA as part of the public record. NOAA will accept anonymous comments. To do so, on the eRulemaking Portal, enter “N/A” in the required fields if you wish to remain anonymous. If you would like to submit an anonymous comment during the in-person meeting, a comment box, along with paper and writing implements, will be provided. If you would like to provide an anonymous comment during the virtual public scoping meeting, type your comment into the question box, and state that you would like to remain anonymous when your comment is read. Multimedia submissions (i.e., audio, video, etc.) must be accompanied by a written comment. The written comment is considered the official comment and should include discussion of all points you wish to make. NOAA will generally not consider comments, or comment contents, located outside of the primary submission sites or addresses (i.e., those posted on the web, cloud, or other file-sharing system). Please note that no public comments will be audio or video recorded by NOAA or the State.

FOR FURTHER INFORMATION CONTACT: Bridget Faust-Accola, Office for Coastal Management, 1735 Lake Drive West, Chanhassen, Minnesota 55317; ATTN: Bay of Green Bay NERR. Phone: 612-564-0323; or email: bridget.faust@noaa.gov.

SUPPLEMENTARY INFORMATION: In accordance with section 315 of the Coastal Zone Management Act of 1972, as amended (16 U.S.C. 1461), and its implementing regulations (15 CFR part 921), and the National Environmental Policy Act of 1969, as amended (42 U.S.C. 4321), and its implementing regulations (40 CFR part 1500), NOAA and the State intend to prepare a draft environmental impact statement for the proposed Bay of Green Bay National Estuarine Research Reserve. Early in the development of this document, NOAA and the State are required to hold a scoping meeting to solicit public and government comments on significant issues related to this proposed action. (15 CFR 921.13(c)).

NOAA received the State's nomination of the proposed multicomponent site on December 29, 2022. NOAA evaluated the nomination package and found that the proposed site met the research reserve system's requirements. NOAA informed the State in early 2024 that it was approving the nomination and that the next step would be to prepare a draft environmental impact statement and draft management plan. The draft environmental impact statement will assess the potential environmental and socioeconomic impacts of designating the State's proposed site as a National Estuarine Research Reserve System site, and identify and assess the impacts of boundary alternatives. The draft management plan will set a course for operating the Bay of Green Bay National Estuarine Research Reserve once approved, and will include plans for administration, research, education, and facilities for the proposed site. (See 15 CFR 921.13.)

The State's proposed site consists of three components, including all or portions of the following State, university, county, local government, or land trust-owned properties: the Peshtigo Harbor State Wildlife Area, Bloch Oxbow State Natural Area, and Badger Gift Lands; the Peats Lake, Sensiba, Tibbet-Suamico, and Long Tail Units within the Green Bay West Shores Wildlife Area; the Suamico River State Habitat Area; Barkhausen Waterfowl Preserve; Fort Howard Wildlife Area; Gordon Nauman Conservation Area; Ken Euers Nature Area; Point au Sable and Wequiock Creek Natural Areas; Crossroads at Big Creek; the Strawberry Creek Chinook Facility, and Sturgeon Bay Ship Canal Nature Preserve.

The proposed site resulted from the State's comprehensive evaluation process that sought input from the public, affected landowners, and other interested parties. The State held public kickoff meetings in April 2021 to describe the research reserve system, explain the rationale for establishing a reserve in the Bay of Green Bay, and outline a process for selecting and nominating a site to NOAA. The State assembled committees composed of State and Federal agency representatives, Tribal Nations, academia, non-governmental organizations, members of the public, and local units of government. These committees conducted preliminary screening, developed and applied site selection criteria, scored those sites that showed the most potential, and ultimately recommended a site for the future reserve. The State and NOAA held public hearings on September 7 and 8, 2022, to solicit comments on the proposed site. For more detailed information on the site selection process and the proposed site, see the University of Wisconsin-Green Bay's research reserve website: uwgb.edu/national-estuarine-research-reserves.

Federal Domestic Assistance Catalog Number 11.420 (Coastal Zone Management) Research Reserves

Authority: 16 U.S.C. 1461.

Keelin S. Kuipers,
Deputy Director, Office for Coastal Management, National Ocean Service, National Oceanic and Atmospheric Administration.

[FR Doc. 2024-01477 Filed 1-24-24; 8:45 am]

BILLING CODE 3510-08-P